DEPARTMENT OF DEFENSE

Office of the Secretary

[Docket ID: DoD-2022-OS-0057]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by November 16, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Post-Election Voting Survey of State Election Officials; OMB Control Number 0704-PEVS.

Type of Request: New.

Number of Respondents: 55.

Responses per Respondent: 1.

Annual Responses: 55.

Average Burden per Response: 15 minutes.

Annual Burden Hours: 13.75 hours.

Needs and Uses: The primary objective of the Post-Election Voting Survey of State Election Officials, conducted on behalf of the Federal Voting Assistance Program (FVAP), is to gather feedback from the state election officials (SEOs) responsible for administering the Uniformed and Overseas Citizens Absentee Voting Act (UOCAVA) on behalf of the military and overseas voters. This customer service focused survey will help FVAP understand how it can best engage election officials and identify areas where its processes can be improved. This ongoing evaluation will help determine the extent to which FVAP is achieving its mission and what actions FVAP might be able to take in the future to improve its products and services. Conducting this research will help FVAP meet its federal and congressional mandates in terms of ensuring that UOCAVA voters are receiving adequate support from state officials in the registration and voting process for federal elections. The data obtained through this study is also intended to provide insights into existing barriers to UOCAVA voting and recommendations for addressing these challenges. To obtain the necessary information, the Post-Election Voting Survey of State Election Officials project will use data collected from the population of SEOs from all 50 U.S. States, the District of Columbia, and the four U.S. territories covered under UOCAVA: Puerto Rico, Guam, American Samoa, and the U.S. Virgin Islands.

Affected Public: Individuals or households.

Frequency: Biennially.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 12, 2022.
Aaron T. Siegel,
Alternate OSD Federal Register Liaison Officer, Department of Defense.

[FR Doc. 2022-22519 Filed 10-14-22; 8:45 am]

BILLING CODE 5001-06-P